OFFICE OF PERSONNEL MANAGEMENT

5 CFR Part 532

RIN 3206-AL68

Prevailing Rate Systems; Redefinition of the New Orleans, LA, Appropriated Fund Federal Wage System Wage Area

AGENCY: U.S. Office of Personnel Management.

ACTION: Interim rule with request for comments.

SUMMARY: The U.S. Office of Personnel Management is issuing an interim rule to add St. Charles and St. John the Baptist Parishes, Louisiana, to the survey area of the New Orleans, LA, appropriated fund Federal Wage System wage area. The purpose of this change is to ensure the lead agency for the New Orleans wage area is able to obtain wage data that best represent the prevailing rates paid by businesses in the area.

DATES: Effective Date: This regulation is effective on July 9, 2008. We must receive comments on or before August 8, 2008.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is adding St. Charles and St. John the Baptist Parishes, Louisiana, to the survey area of the New Orleans, LA, appropriated fund Federal Wage System (FWS) wage area. The New Orleans survey area currently includes five of the seven parishes of the New Orleans-Metairie-Kenner, LA Metropolitan Statistical Area (MSA)—Jefferson, Orleans, Plaquemines, St. Bernard, and St. Tammany Parishes. The survey area does not include St. Charles and St. John the Baptist Parishes, which are also in the New Orleans-Metairie-Kenner MSA.

While there are currently only five FWS employees working in St. Charles Parish and no FWS employees working in St. John the Baptist Parish, the addition of St. Charles and St. John the Baptist Parishes to the New Orleans survey area provides a desirable increase in the number of surveyable private sector industrial establishments in the New Orleans survey area—about 15 percent more than in the current New Orleans survey area.

This survey area expansion will not create an undue survey burden on the lead agency for the wage area (the Department of Defense) and is strongly justified because of the substantial damage to private sector establishments in the New Orleans area in the aftermath of Hurricane Katrina. Expanding the New Orleans survey area will allow additional private sector establishments to provide wage data that best represents the prevailing rates paid by businesses in the New Orleans area.

This change will be effective for the next full-scale wage survey in the wage area, which is scheduled to begin in November 2008. The Federal Prevailing Rate Advisory Committee, the national labor-management committee responsible for advising OPM on matters concerning the pay of FWS employees, has reviewed and recommended this change by consensus.

Waiver of Notice of Proposed Rulemaking and Delay in Effective Date

Pursuant to 5 U.S.C. 553(b)(3)(B) and (d)(3), I find that good cause exists to waive the general notice of proposed rulemaking. Also pursuant to 5 U.S.C. 553(d)(3), I find that good cause exists for making this rule effective in less than 30 days. This notice is being waived and the regulation is being made effective in less than 30 days because Hurricane Katrina caused substantial economic disruption in the New Orleans wage area affecting the Government's ability to adequately measure local prevailing wage levels. This change is urgent because the next scheduled wage survey in the wage area will occur in November 2008, and the lead agency must begin planning and coordination phases for the survey as soon as possible.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

Office of Personnel Management.
Linda M. Springer,
Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. In appendix C to subpart B, the wage area listing for the State of Louisiana is amended by revising the listing for New Orleans to read as follows:

* * * * *

Louisiana

* * * * *

New Orleans

Survey Area

Louisiana:

Jefferson

Orleans

Plaquemines

St. Bernard

St. Charles

St. John the Baptist

St. Tammany

Area of Application. Survey Area Plus

Louisiana:

Ascension

Assumption

East Baton Rouge

East Feliciana

Iberia

Iberville

Lafourche

Livingston

Pointe Coupee

St. Helena

St. James

St. Martin

St. Mary

Tangipahoa

Terrebonne

Washington

West Baton Rouge

West Feliciana

* * * * *

[FR Doc. E8-15598 Filed 7-8-08; 8:45 am]

BILLING CODE 6325-39-P